FEDERAL RESERVE SYSTEM

Formations of, Acquisitions by, and Mergers of Bank Holding Companies; Correction

This notice corrects a notice (FR Doc. 01-2031) published on page 7490 of the issue for Tuesday, January 23, 2001.

Under the Federal Reserve Bank of New York heading, the entry for Financial Institutions, Inc., Warsaw, New York, is revised to read as follows:

A. Federal Reserve Bank of New York(Betsy Buttrill White, Senior Vice President) 33 Liberty Street, New York, New York 10045-0001:

1. Financial Institutions, Inc., Warsaw, New York; to acquire 100 percent of the voting shares of and merge with Bath National Corporation, Bath, New York, and thereby indirectly acquire Bath National Bank, Bath, New York. Applicant also has applied to exercise an option to purchase up to 13 percent of the voting shares of Bath National Bancorp, Bath, New York.

Comments on this application must be received by February 16, 2001.

Board of Governors of the Federal Reserve System, February 1, 2001.
Robert deV. Frierson
Associate Secretary of the Board.

[FR Doc. 01-3097 Filed 2-6-00; 8:45 am]

BILLING CODE 6210-01-S